SECURITIES AND EXCHANGE COMMISSION

[File No. 500-1]

In the Matter of Chatter Box Call Center Ltd., Euro Group of Companies, Inc., and Golden Century Resources Limited; Order of Suspension of Trading

April 7, 2015.

It appears to the Securities and Exchange Commission that there is a lack of current and accurate information concerning the securities of Chatter Box Call Center Ltd. because it has not filed any periodic reports since the period ended December 31, 2011.

It appears to the Securities and Exchange Commission that there is a lack of current and accurate information concerning the securities of Euro Group of Companies, Inc. because it has not filed any periodic reports since the period ended June 30, 2011.

It appears to the Securities and Exchange Commission that there is a lack of current and accurate information concerning the securities of Golden Century Resources Limited because it has not filed any periodic reports since the period ended March 31, 2012.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on April 7, 2015, through 11:59 p.m. EDT on April 20, 2015.

By the Commission.
Jill M. Peterson,
Assistant Secretary.

[FR Doc. 2015-08260 Filed 4-7-15; 4:15 pm]

BILLING CODE 8011-01-P